DEPARTMENT OF STATE

[Public Notice 7320]

Intergovernmental Panel on Climate Change Special Report Review

AGENCY: Department of State.

ACTION: The United States Global Change Research, in cooperation with the Department of State, request expert review of the Special Report on Managing the Risks of Extreme Events and Disasters To Advance Climate Change Adaptation (SREX) of the Intergovernmental Panel on Climate Change (IPCC).

SUMMARY: The IPCC was established as an intergovernmental body under the auspices of the United Nations Environment Programme (UNEP) and the World Meteorological Organization (WMO) in 1988. In accordance with its mandate and as reaffirmed in various decisions by the Panel, the major activity of the IPCC is to prepare comprehensive and up-to-date assessments of policy-relevant scientific, technical, and socio-economic information for understanding the scientific basis of climate change, potential impacts, and options for mitigation and adaptation. More information about the IPCC can be found at http://www.ipcc.ch.

The IPCC develops a comprehensive assessment spanning all the above topics approximately every six years. In addition to these comprehensive assessments, the IPCC periodically develops Special Reports on specific topics. The Preparation of Special Reports follows the same procedures as for the Assessment Reports. Governments develop and approve plans for reports, and nominate scientists and experts as lead authors and reviewers. Authors prepare the reports, which go through several stages of review, following which member governments at a session of the IPCC accept them. Member governments also approve the executive summaries of the reports (known as a “summary for policy makers”) in detail at the time that they accept the overall report. Principles and procedures for the IPCC and its preparation of reports can be found at the following Web sites:

• http://www.ipcc-wg2.gov/AR5/extremes-sr/extremes_documents/ipcc-principles-appendix-a.pdf (pdf)

• http://ipcc.ch/organization/organization_procedures.shtml

In April 2009, the IPCC approved the development of a special report on “Managing the Risks of Extreme Events and Disasters to Advance Climate Change Adaptation (SREX).” The SRREX is being developed under the leadership of the IPCC Working Group II. This report will exclusively focus on events and disasters that are related to climate change. The IPCC 4th Assessment Report identified and demonstrated the usefulness of taking a risk perspective in order to identify ways in which civil society can promote sustainable development while reducing the risk of climate-related damages and taking advantage of opportunities that climate change will offer. This Special Report aims to assess policies, measures and tools and practice for managing the risk of extreme events to advance effective adaptation.

All IPCC reports go through two broad reviews: a “first-order draft” for experts, and a “second-order draft” for experts and governments. The IPCC Secretariat has informed the U.S. Department of State that the second-order draft of the SREX is available for expert and government review on February 7.

The approved outline of the report has a total of nine chapters. The early sections of the report discusses new dimensions in disaster risk, exposure, vulnerability and resilience, the determinants of risk, and changes in climate extremes and their associated impacts on the natural environment, human systems and ecosystems. The following section of the report discusses risk management at the local, national and international including cross-scale integrations. The report then outlines synergies between disaster risk management and climate adaptation as critical components for a resilient and sustainable future. The report closes with cases studies on extreme events, vulnerable populations and settings, and management approaches.

As part of the U.S. Government Review of the SREX, the U.S. Government is soliciting comments from experts in relevant fields of expertise. The Global Change Research Program will coordinate collection of U.S. expert comments and the review of the report by panels of Federal scientists and program managers in order to develop a consolidated U.S. Government submission. Expert comments received within the comment period will be considered for inclusion in the U.S. Government submission. Instructions for review and submission of comments are available at http://www.globalchange.gov/srexreview.

To be considered for inclusion in the U.S. Government collation, comments must be received by midnight March 7th, 2011. Comments submitted for consideration as part of the U.S. Government Review should be reserved for that purpose, and not also sent to the IPCC Secretariat as a discrete set of expert comments. Comments should be submitted using the Web-based system at: http://www.globalchange.gov/srexreview.

This certification will be published in the Federal Register.

Dated: February 1, 2011.
Christo Artusio,
Deputy Director, Office of Global Change, Department of State.

[FR Doc. 2011-2648 Filed 2-4-11; 8:45 am]

BILLING CODE 4710-09-P